DEPARTMENT OF HEALTH AND HUMAN SERVICES

Health Resources and Services Administration

HRSA AIDS Advisory Committee; Notice of Meeting; Correction

In Federal Register Document 01-10229 appearing on page 20820 in the issue for Wednesday, April 25, 2001, the location of the meeting scheduled on June 4, 2001, from 8:30 a.m.-5 p.m. has changed. This meeting will be held at: Holiday Inn Select (Conference Plaza),130 Claremont Avenue,Decatur, Georgia 30030,Telephone: 800-225-6079.

Dated: May 7, 2001.
Jane M. Harrison,
Director, Division of Policy Review and Coordination.

[FR Doc. 01-11880 Filed 5-10-01; 8:45 am]

BILLING CODE 4160-15-P